DEPARTMENT OF TRANSPORTATION

National Highway Traffic Safety Administration

[Docket No. NHTSA-2018-0054; Notice 2]

General Motors, LLC, Grant of Petition for Decision of Inconsequential Noncompliance

AGENCY: National Highway Traffic Safety Administration (NHTSA), Department of Transportation (DOT).

ACTION: Grant of petition.

SUMMARY: General Motors, LLC (GM), has determined that certain model year (MY) 2018 Buick Regal motor vehicles do not fully comply with Federal Motor Vehicle Safety Standard (FMVSS) No. 110, Tire Selection and Rims and Motor Home/Recreation Vehicle Trailer Load Carrying Capacity Information for Motor Vehicles with a GVWR of 4,536 kilograms (10,000 pounds) or Less. GM filed a noncompliance report dated April 4, 2018, and subsequently petitioned NHTSA on April 27, 2018, for a decision that the subject noncompliance is inconsequential as it relates to motor vehicle safety. This document announces the grant of GM's petition.

FOR FURTHER INFORMATION CONTACT: Kerrin Bressant, Office of Vehicle Safety Compliance, the National Highway Traffic Safety Administration (NHTSA), telephone (202) 366-1110, facsimile (202) 366-5930.

SUPPLEMENTARY INFORMATION:

I. Overview

GM has determined that certain MY 2018 Buick Regal motor vehicles do not fully comply with paragraph S4.3 of Federal Motor Vehicle Safety Standard (FMVSS) No. 110, Tire Selection and Rims and Motor Home/Recreation Vehicle Trailer Load Carrying Capacity Information for Motor Vehicles with a GVWR of 4,536 kilograms (10,000 pounds) or Less (49 CFR 571.110). GM filed a noncompliance report dated April 4, 2018, pursuant to 49 CFR part 573, Defect and Noncompliance Responsibility and Reports. GM also petitioned NHTSA on April 27, 2018, pursuant to 49 U.S.C. 30118(d) and 30120(h) and 49 CFR part 556, for an exemption from the notification and remedy requirements of 49 U.S.C. Chapter 301 on the basis that this noncompliance is inconsequential as it relates to motor vehicle safety.

Notice of receipt of GM's petition was published, with a 30-day public comment period on May 24, 2018, in the Federal Register (83 FR 24162). No Comments were received.

II. Vehicles Involved

Approximately 1,029 MY 2018 Buick Regal motor vehicles manufactured between August 22, 2017, and February 15, 2018, are potentially involved.

III. Noncompliance

GM explains that the noncompliance is that the subject vehicles were equipped with tire placards that incorrectly state the spare tire size and cold tire pressure. Specifically, the tire placards state that the spare tire size is “None” when in fact it should have been “T125/70R17” and omitted the cold tire pressure for the spare tire when it should have read “420 kPa, 60 psi,” as required by paragraph S4.3 of FMVSS No. 110.

IV. Rule Requirements

Paragraph S4.3 of FMVSS No. 110 includes the requirements relevant to this petition. Each vehicle, except for a trailer or incomplete vehicle, shall show the original spare tire size designation and recommended cold tire inflation pressure on a placard permanently affixed to the vehicle on the driver's side B-pillar.

V. Summary of GM's Petition

GM described the subject noncompliance and stated its belief that the noncompliance is inconsequential as it relates to motor vehicle safety.

In support of its petition, GM submitted the following reasoning:

1. There is no issue with the spare tire itself, it's safe and nondefective. The only issue here is that certain information about the spare tire is not listed on the vehicle placard. But that is inconsequential because that information is provided in other locations.

2. Specifically, the spare tire information is located in at least three places: (1) On the sidewall of the spare tire; (2) in the owner's manual, which the vehicle placard specifically directs the customer to for additional information; and (3) on the Monroney label.

3. There is no issue with the road tires and the information on the vehicle placard for the road tires is correct.

4. In the event of a flat tire, the customer will have a spare tire that is labeled with the proper inflation pressure and has a sufficient load rating for the vehicle. It will be immediately apparent to any customer potentially confused by the “none” language that the vehicle has a spare tire when they lift the liftgate as explained in the owner's manual. In addition, the fact that the vehicle has a spare tire is explained on the Monroney label.

5. The spare-tire size and pressure information is readily available from additional sources (e.g., any automotive dealer or tire replacement facility), and on GM's or the tire retailer's website.

6. Most, if not all, temporary spare tires have the same cold tire pressure, which is 60 psi. The 60 psi pressure is an industry standard and it is set by at least two governing bodies, the U.S. Tire and Rim Association and the European Tire Rim Technical Organization.

7. All other information on the vehicle placard is correct.

8. NHTSA has previously granted similar inconsequential petitions with respect to FMVSS No. 110 noncompliances.

9. GM is not aware of any field or owner complaints associated with this issue. GM is also not aware of any crashes or injuries associated with this condition.

GM's complete petition and all supporting documents are available by logging onto the Federal Docket Management System (FDMS) website at https://www.regulations.gov and by following the online search instructions to locate the docket number as listed in the title of this notice.

VI. NHTSA's Analysis

The intent of FMVSS No. 110 is to ensure that vehicles are equipped with tires appropriate to handle maximum vehicle loads and to prevent overloading.

GM explained that the subject vehicles are equipped with tire and loading information labels that do not provide the cold tire pressure or original size information for the spare tire, and instead, incorrectly indicated that there is no spare tire.

The agency agrees with GM that the subject noncompliance is inconsequential to motor vehicle safety. Even though the subject vehicles have erroneously marked tire placard labels, the subject vehicles are equipped with the appropriate matched spare tire and rim combination, and that when properly mounted on the subject vehicles, would allow the vehicles to be operated safely within the manufacturer's specified performance and loading limits. The agency agrees with GM, that should a customer question whether the vehicle comes equipped with a spare tire or what the cold tire pressure is for the spare tire, most customers would consult the Owner's Manual, which would direct the customer to the spare tire location as well as provide the recommended tire pressure. Should the Owner's Manual be unavailable, the customer would be able to lift the liftgate and see that there is a spare tire or contact any authorized dealer or tire replacement facility for assistance.

VII. NHTSA's Decision

In consideration of the foregoing, NHTSA finds that GM has met its burden of persuasion that the FMVSS No. 110 noncompliance is inconsequential as it relates to motor vehicle safety. Accordingly, GM's petition is hereby granted and GM is exempted from the obligation of providing notification of, and a remedy for, the noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject vehicles that GM no longer controlled at the time it determined that the noncompliance existed. However, the granting of this petition does not relieve vehicle distributors and dealers of the prohibitions on the sale, offer for sale, or introduction or delivery for introduction into interstate commerce of the noncompliant vehicles under their control after GM notified them that the subject noncompliance existed.

Authority: (49 U.S.C. 30118, 30120: delegations of authority at 49 CFR 1.95 and 501.8)

Otto G. Matheke III,
Director, Office of Vehicle Safety Compliance.

[FR Doc. 2019-11208 Filed 5-29-19; 8:45 am]

BILLING CODE 4910-59-P